DEPARTMENT OF COMMERCE

International Trade Administration

Mission Statement: Building for the Future: U.S. Building Products Trade Mission to Asia, April 20-28, 2009

AGENCY: Department of Commerce.

ACTION: Notice.

Mission Description

The United States Department of Commerce, International Trade Administration, U.S. and Foreign Commercial Service is organizing a Trade Mission to Hong Kong, Singapore, and Bangkok, Thailand, April 20-28, 2009, to promote U.S. firms offering environmentally friendly design and engineering services, energy efficient building systems, efficient lighting and heating/ventilation/air conditioning (HVAC) systems, and eco-friendly building products.

Growing interest in energy efficiency, environmental protection, and “green” building are generating significant opportunities in these markets for U.S. firms offering innovative products and technologies. The mission will include one-on-one business matchmaking appointments with prospective agents, distributors, and end-users; updates on major projects; Embassy briefings on doing business in each country market; and networking receptions.

Commercial Setting

Hong Kong

In Hong Kong's estimated $24 billion annual construction and building sector, usage of eco-friendly and energy-saving products has increased in recent years as developers are becoming more concerned about their environmental image and seek to attract multinational corporate tenants who prefer features that will save energy, reduce waste, and increase productivity in their commercial projects.

Government regulations and incentives play a pivotal role in shaping the design of residential buildings in Hong Kong. Government incentives to encourage green building and waste reduction include exempting green features from the calculation of the gross floor area of a property, which grants developers extra floor space to boost the market value of their properties.

In the last five years, growth in demand has been significant for environmentally-friendly products such as T5 lamps, variable-speed pumps, heat recovery systems in HVAC, service-on-demand features, advanced window glazings, and motion sensors. Metal formworks have extensively replaced timber. More pre-fabricated elements are used to allow cleaner construction sites. Use of photovoltaic panels has also increased, particularly in public buildings, although not on a large scale. The market for green building products in Hong Kong is far from maturity and holds genuine potential.

Singapore

Singapore's $17 billion construction market is estimated to reach $20 billion annually over the next five years. Government spending will be the main factor sustaining construction demand, with emphasis on infrastructure projects. Singapore's interest in green building promises to be substantial. The Government has set aside about $13 million over the next three years for the Green Mark Incentive Program, administered by the Building and Construction Authority (BCA), offering cash incentives to private developers and building owners for efforts to achieve a BCA Green Mark Gold rating for new or retrofitted buildings with a gross floor area exceeding 5,000 square meters. Furthermore, under BCA's Green Mark program, the Marina Bay area is to serve as a model eco-city, with a new reservoir and gardens, and most buildings in the vicinity Green Mark certified. (For details on BCA's Green Mark program, see http://www.bca.gov.sg/GreenMark/green_mark_buildings.html.)

Singapore's Housing and Development Board is developing an eco-precinct in an effort to ensure the sustainability of public housing developments. The BCA is also establishing the One North area as a model of green facilities for the industrial sector. BCA's Green Mark building program is strongly supported by Singapore's National Environment Agency, pointing to excellent opportunities for U.S. suppliers of green materials and technology. The BCA specifically recommends the use of recyclable materials, as well as products and systems designed to harness renewable energy (e.g., solar, wind, biomass), increase energy efficiency, improve indoor air quality, and reduce noise and air pollution.

Another $34 million has been set-aside to be used within the next five years for a new Research Fund for the Built Environment. This Fund aims to intensify research and development efforts in green building technologies and energy efficiency. Separately, the Singapore Economic Development Board is committing $234 million for the green energy push, which includes an initiative to make Singapore a testing ground for new technologies, such as the latest solar panels or fuel cell engines.

In all, the market potential in Singapore for technologies, systems and equipment used in the construction of environmentally sustainable (“green”) buildings is growing. This covers all types of systems and products to improve energy and water efficiency of a building, technologies and equipment that improve indoor air quality, construction systems that reduce noise and air pollution, and recyclable building materials.

Thailand

The United States and Thailand have enjoyed a special commercial relationship for 175 years under the Treaty of Amity and Commerce, which in most sectors affords U.S. companies operating in Thailand national treatment, putting them on an “equal playing field” with Thai companies, a privilege offered to no other trading partner's companies. The Thai market offers opportunities for U.S. companies in a number of infrastructure sectors, including building and renewable energy.

The growing necessity for energy conservation in commercial and residential buildings is opening doors for “green” building products in Thailand. As the third largest energy consuming sector, after transport and industry, commercial and residential buildings are the Thai Government's target sector for implementation of energy conservation policies. Last year, the Ministry of Energy, through the Department of Alternative Energy Development and Efficiency, introduced a program to promote energy efficient buildings. The program provides technical assistance in building design and selection of building products such as exteriors, insulation, lighting, and HVAC. Qualified participants will be publicly endorsed as “energy efficient.” Such incentives, along with tighter building regulations and greater awareness of energy conservation among Thais, will continue to drive demand for green products and technologies in the coming years.

The Thai government's $8.6 billion investment plan for infrastructure development over the next five years also offers potential for U.S. suppliers of building products and services, particularly those offering eco-friendly materials and technologies for the construction of rail-based mass transit systems. American building products, commanding a reputation for quality and technology, stand much to gain from these growing demand trends in Thailand.

Mission Goals

The Building for the Future Trade Mission will help U.S. firms to explore supplier opportunities under various infrastructure programs and initiate or expand their exports to the three markets through business-to-business introductions, market briefings, and networking activities.

Mission Scenario

The mission will stop in Hong Kong, Singapore and Bangkok, Thailand. In each city, participants will meet with government officials, potential buyers, agents/distributors, and other business partners. They will also attend market briefings by U.S. Embassy officials, as well as networking events offering further opportunities to speak with local business and industry decision-makers.

Proposed Mission Timetable

April 20, 2009 | Mission begins in Hong Kong. Market briefing. Business matchmaking. Networking reception.
April 20-21, 2009 | Business matchmaking.
April 22, 2009 | Travel to Bangkok, Thailand. Networking reception.
April 23-24, 2009 | Market Briefing. Business matchmaking.
April 25 or 26, 2009 | Travel to Singapore on weekend.
April 27-28, 2009 | Briefing. Business matchmaking. Networking reception. Mission concludes.

Participation Requirements

All parties interested in participating in the Building for the Future Trade Mission must complete and submit an application package for consideration by the Department of Commerce. All applicants will be evaluated on their ability to meet certain conditions and best satisfy the selection criteria as outlined below. A minimum of 7 and maximum of 15 companies will be selected to participate in the mission from the applicant pool. U.S. companies already doing business in the target markets as well as U.S. companies seeking to enter the target markets for the first time may apply.

Fees and Expenses

After a company has been selected to participate in the mission, a payment to the Department of Commerce in the form of a participation fee is required. The participation fee will be $5,785 for a large firm and $3,975 for a small- or medium-sized enterprise (SME).* The fee for each additional firm representative (large firm or SME) is $450. Expenses for travel, lodging, most meals, and incidentals will be the responsibility of each mission participant. The option to participate in the mission is also being offered to U.S.-based firms with an established presence in the target markets or neighboring countries; the same fee structure applies.

* An SME is defined as a firm with 500 or fewer employees or that otherwise qualifies as a small business under SBA regulations (see http://www.sba.gov/services/contracting_ opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria: Selection will be based on the following criteria:

• Suitability of the company's products or services in the target markets and sectors.

• Applicant's potential for business in the target markets, including likelihood of exports resulting from the mission.

• Consistency of the applicant's goals and objectives with the stated scope of the trade mission.

Referrals from political organizations and any documents containing references to partisan political activities (including political contributions) will be removed from an applicant's submission and not considered during the selection process.

Timeframe for Recruitment and Applications

Mission recruitment will be conducted in an open and public manner. Outreach will include publication in the Federal Register, posting on the Commerce Department trade mission calendar (http://www.ita.doc.gov/doctm/tmcal.html) and other Internet Web sites, press releases to general and trade media, direct mail, broadcast fax, notices by industry trade associations and other multiplier groups, and publicity at industry meetings, symposia, conferences, and trade shows. The International Trade Administration will explore and welcome outreach assistance from other interested organizations, including other U.S. Government agencies.

Recruitment for the mission will begin immediately and close February 20, 2009. Applications are available on-line on the mission Web site at http://www.buyusa.gov/globaldesignbuild/futurebuildmission.html. They can also be obtained by contacting the Mission Project Officer listed below. Applications received after February 20, 2009 will be considered only if space and scheduling constraints permit.

Contacts

Sean Timmins, Global Trade Programs, Commercial Service Trade Missions Program, Tel: 202-482-1841, E-mail: FutureBuildMission@mail.doc.gov.

Terri Batch, International Trade Specialist, Global Design Build Team Leader, Tel: 310-882-1750, E-mail: FutureBuildMission@mail.doc.gov.

Sean Timmins,
Global Trade Programs, Commercial Service Trade Missions Program.

[FR Doc. E8-27761 Filed 11-20-08; 8:45 am]

BILLING CODE 3510-DS-P